DEPARTMENT OF ENERGY

Federal Energy Regulatory Commission

Notice of Application for Amendment of License and Soliciting Comments, Motions To Intervene, and Protests

November 5, 2004.

Take notice that the following application has been filed with the Commission and is available for public inspection:

a. Application Type: Amendment of recreation plan.

b. Project No.: 10482-065.

c. Date Filed: October 25, 2004.

d. Applicant: Mirant Bowline, LLC (Mirant).

e. Name of Project: Swinging Bridge Project.

f. Location: The project is located on the Mongaup River in Sullivan and Orange Counties, New York.

g. Filed Pursuant to: Federal Power Act, 16 U.S.C. 791 (a) 825(r) and §§ 799 and 801.

h. Applicant Contact: Elliot Neri, Bowline Plant Manager, (845) 786-8000.

i. FERC Contact: Any questions on this notice should be addressed to Mrs. Heather Campbell at (202) 502-6182, or e-mail address: heather.campbell@ferc.gov.

j. Deadline for Filing Comments and or Motions: December 6, 2004.

All documents (original and eight copies) should be filed with: Ms. Magalie R. Salas, Secretary, Federal Energy Regulatory Commission, 888 First Street, NE., Washington, DC 20426. Please include the project number (P-10482-065) on any comments or motions filed. Comments, protests, and interventions may be filed electronically via the Internet in lieu of paper. See 18 CFR 385.2001(a)(1)(iii) and the instructions on the Commission's Web site at http://www.ferc.gov under the “e-Filing” link. The Commission strongly encourages e-filings.

k. Description of Request: Mirant is requesting an amendment to its approved recreation plan to eliminate the boat launch at the southern end of Toronto Reservoir (Toronto Dam boat launch) and enhance the facilities at the northern end of the reservoir (Moscoe Road boat launch).

l. Location of the Application: This filing is available for review at the Commission in the Public Reference Room 888 First Street, NE., Room 2A, Washington, DC 20426 or may be viewed on the Commission's Web site at http://www.ferc.gov using the “e-library” link. Enter the docket number excluding the last three digits in the docket number field to access the document. For assistance, call toll-free 1-866-208-3676 or e-mail FERCOnlineSupport@ferc.gov. For TTY, call (202) 502-8659. A copy is also available for inspection and reproduction at the address in item h. above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments—Federal, State, and local agencies are invited to file comments on the described applications. Copies of the applications may be obtained by agencies directly from the Applicant. If an agency does not file comments within the time specified for filing comments, it will be presumed to have no comments. One copy of an agency's comments must also be sent to the Applicant's representatives.

Magalie R. Salas,
Secretary.

[FR Doc. E4-3210 Filed 11-17-04; 8:45 am]

BILLING CODE 6717-01-P